DEPARTMENT OF AGRICULTURE

Forest Service

Environmental Impact Statement for Implementing the Travel Management Rule for the Deschutes and Ochoco National Forests and Crooked River National Grassland, Deschutes & Ochoco National Forests, Deschutes, Crook, Jefferson, Klamath, Grant and Lake Counties, OR

AGENCY: Forest Service, USDA.

ACTION: Notice of intent to prepare an environmental impact statement.

SUMMARY: The U.S. Forest Service will prepare an environmental impact statement (EIS) on a proposed action to implement 36 CFR parts 212, 251, 261, and 295; Travel Management: Designated Routes and Areas for Motor Vehicle Use; Final Rule (Travel Management Rule). The Deschutes and Ochoco National Forests and the Crooked River National Grassland propose to prohibit motorized travel ¹ outside of 300′ of the centerline of those existing designated routes (roads and trails) and areas that currently allow motorized use and that are not otherwise restricted or prohibited for such use by law, regulation, policy, order, Land and Resource Management Plans (Forest Plans), or other past administrative decisions. Class of vehicles (highway licensed and/or non-highway licensed) and season(s) of use that motorized access to dispersed campsites would be allowed would match the adjacent designated route classification and seasonal use period. Special provisions for motorized access only to designated, defined, or existing campsites, and/or prohibitions from motorized access would be applied adjacent to routes and within areas specified on the Proposed Action maps. Identification of routes with special provisions and/or prohibitions and would be based on a set of criteria for establishing exceptions to the general provision for 300′ motorized access adjacent to designated routes in the proposed action. No new motorized access to areas currently prohibited to motorized access would be included in the proposed action.

¹ Over the snow vehicles are excluded from this proposed action.

The proposed action would amend the Ochoco National Forest Plan by deleting forest plan standards and guidelines that are not consistent with the Travel Management Rule and the proposed action. The proposed action would amend the Deschutes National Forest Plan to make minor (1-2 day) corrections to some motorized season of use dates for consistency with other similar season of use dates, and change some analysis requirements from outdated “implementation units” to watershed or similar sized ecologically-based areas. The alternatives will include the proposed action, no action, and additional alternatives that respond to issues generated through the scoping process. The agency will give notice of the full environmental analysis and decision making process so interested and affected people may participate and contribute to the final decision.

Location: The proposed action includes all of the Deschutes and Ochoco National Forests and Crooked River National Grassland. These federal lands are located in the vicinity of the central Oregon cities of Bend, Prineville, and Madras. The proposed action applies only to National Forest and Grassland lands, although lands of other than federal ownership lie adjacent or interspersed across the landscape with national forests and grasslands.

DATES: Comments concerning the scope of the analysis, issues about the proposed action, or alternatives to the proposed action are most helpful if received within 30 days following the date that this notice appears in the Federal Register.

ADDRESSES: Send written comments to the Deschutes National Forest at 1001 SW Emkay, Bend, OR 97701 Attention: Mose Harris, Travel Management Team.

FOR FURTHER INFORMATION CONTACT: Mose Harris, Writer-Editor, Mollie Chaudet, Peggy Fisher, or Laurel Skelton, at the Deschutes National Forest Headquarters, 1001 SW Emkay, Bend, OR 97702, (541) 383-5300.

Responsible Officials: The Responsible Officials are John Allen, Forest Supervisor, Deschutes National Forest and Jeff Walter, Forest Supervisor, Ochoco National Forest.

SUPPLEMENTARY INFORMATION: Purpose and Need: In 2005, the Forest Service published a final rule in the Federal Register: 36 CFR Parts 212, 251, 261, and 295; Travel Management: Designated Routes and Areas for Motor Vehicle Use; Final Rule (Travel Management Rule). Currently, the Deschutes and Ochoco National Forests have over 9000 miles of designated routes (roads and trails), and a few designated areas that are open to a variety of highway and non-highway licensed vehicles. There is a variety of laws, regulations, and policies that result in a mixture of areas of the Forests and Grassland that do or do not allow motorized access off of these designated routes. The 2005 Travel Management rule requires that all national forests prohibit motorized travel off of designated routes or outside of designated areas, with some exceptions. The rule was passed because of a number of resource and social concerns related to motorized travel that were detailed in the rule. Prohibiting motorized travel off of existing designated routes without exception would affect the ability of many forest users to access existing “dispersed” or informal campsites, some of which have been used by generations of families. The objective of the proposed action would be to continue to provide for motorized access to dispersed campsites without adversely affecting sensitive resources. There are also some potential safety concerns concerning “mixed” (highway and non-highway licensed vehicles) that could result from limiting all motorized use to the existing designated National Forest System roads and motorized trails on the Forests and Grassland. Currently, many National Forest System roads on the Deschutes and Ochoco National Forests and the Crooked River National Grassland have existing designations that follow state regulation(s) that allow for “mixed” use of highway and non-highway licensed vehicles on roads classified by the Forest Service as “Maintenance Level 2”. Mixed use of some of these roads may pose a risk to reasonable levels of public safety for motorized users. The proposed action would implement the national Travel Management rule while continuing to provide motorized access for dispersed camping without adversely affecting sensitive resources and reasonable levels of public safety on mixed use roads.

Proposed Action: In accordance with 36 CFR 212, 251, 261, and 295, the Deschutes and Ochoco National Forests and the Crooked River National Grassland propose to prohibit motorized travel ² outside of those existing designated routes (roads and trails) and areas where it is not already restricted or prohibited by law, regulation, policy, order, Forest Plan direction, or site-specific decision. The Proposed Action would not propose to close any existing designated motorized routes open to motorized travel, although non-highway licensed vehicles would be prohibited from some roads because of safety concerns. The proposed action would amend the Ochoco National Forest Plan by deleting forest plan standards and guidelines that are not consistent with the Travel Management Rule and the proposed action. The proposed action would amend the Deschutes National Forest Plan to make minor (1-2 day) corrections to some motorized season of use dates for consistency with other similar season of use dates, and change some analysis requirements from outdated “implementation units” to watershed or similar sized ecologically-based areas. Existing designated routes and areas for motorized use according to the season of use (open to use time frame) and class of vehicle (highway licensed or non-highway licensed) will be identified on the Deschutes and Ochoco National Forest and Crooked River National Grassland Proposed Action maps. In accordance with provisions of the Travel Management Rule, and with the objective of minimizing resource damage associated with motorized travel off of designated route, the proposed action would:

² Over the snow vehicles are excluded from this proposed action.

1. Continue to allow motorized access for the purpose of ingress and egress to a dispersed campsite within 300′ of the centerline of most of the designated routes shown on the proposed action maps. This approach mirrors the local so-called “green dot” motorized access rules that have been in place adjacent to some designated roads on the forests for many years during hunting seasons.

2. In certain areas with specific resource concerns, special provisions would continue to allow motorized access within 300′ of the centerline of a designated route only for the purpose of accessing designated, defined or existing dispersed campsites. Designated sites are marked with a sign; defined sites limit the extent of the site and motorized access to the site with boulder or wood structures; and existing sites have established fire rings or other evidence of historic use.

3. In riparian areas (those areas adjacent to wetlands, lakes, streams and springs), motorized access would continue to be allowed only to designated, defined, or existing camping sites. Motorized access to existing (not specifically designated or defined) campsites less than 30′ from the edge of the wetland, lake, stream or spring would not be allowed. Motorized vehicles would not be permitted to cross streams except on designated roads or trails open to motorized use.

4. No motorized access to areas with current prohibitions or restrictions on motorized access to dispersed campsites (e.g.: Wilderness Areas, Newberry National Volcanic Monument Caldera Zone, other Management Areas adjacent to open roads but closed to motorized use) or motorized access to dispersed campsites not on National Forest lands would be authorized under this proposal.

Decisions To Be Made: The Deschutes and Ochoco Forest Supervisors are the Deciding Officials for:

Prohibiting motorized travel off of existing designated routes within the Deschutes and Ochoco National Forests and Crooked River National Grassland where such use is not already prohibited by law, regulation, policy, Land and Resource Management Plans, or past administrative action or decision;

determining whether or under what conditions motorized access for dispersed camping allowed by the rule would be provided;

determining whether or under what conditions mixed use of highway and non-highway licensed vehicles on identified national forest system roads would be allowed; and

determining whether, or under what conditions, to amend forest plans.

Possible Alternatives: The EIS will consider the following alternatives to the Proposed Action:

(1) A “No Action/No Change” Alternative—that would not prohibit motorized travel off of designated routes and would not amend forest plans. This action would not be consistent with the Travel Management Rule.

(2) The proposed action.

(3) Alternatives to the proposed action that are within the scope of the proposed action, meet the purpose and need, are responsive to the comments received during the scoping period, and are approved by the Forest Supervisors for consideration.

Scoping Process: The Deschutes and Ochoco National Forests have held ten public workshops and thirteen Travel Management Strategy Working Group meetings that were open to the public throughout central Oregon in 2006 and 2007 to help develop the proposed action identified for this Environmental Impact Statement. Additional public meetings to gather comments on the proposed action will be held at the following locations and dates from 5 p.m. until 8 p.m.:

• May 19—Sisters High School, 1700 W. McKinney Butte Rd., Sisters, Oregon.

• May 20—Madras Senior Center, 860 SW Madison, Madras, Oregon.

• May 21—Deschutes National Forest Headquarters, 1001 SW Emkay, Bend, Oregon.

• May 27—Ochoco National Forest Headquarters, 3160 NE 3 St., Prineville, Oregon.

• May 28—Gilchrist High School, 201 Mountain View Dr., Gilchrist, Oregon.

• June 2—Redmond High School, Hugh Hartman Building, 2105 W. Antler Ave., Redmond, Oregon.

Comment. Public comments about this proposal are requested in order help identify significant issues concerning the proposed action which will help to develop the range of alternatives to the proposed action that are considered and help to focus the analysis. Comments received in response to this notice, including names and addresses of those who comment, will be considered part of the public record on this proposed action and will be available for public inspection. Comments submitted anonymously will be accepted and considered; however, those who submit anonymous comments will not have standing to appeal the subsequent decision under 36 CFR parts 215 and 217. Additionally, pursuant to 7 CFR 1.27(d), any person may request the agency to withhold a submission from the public record by showing how the Freedom of Information Act (FOIA) permits such confidentiality. Persons requesting such confidentiality should be aware that, under FOIA, confidentiality may be granted in only very limited circumstances, such as to protect trade secrets. The Forest Service will inform the requester of the agency's decision regarding the request for confidentiality, and where the request is denied; the agency will return the submission and notify the requester that the comments may be resubmitted with or without name and address within a specified number of days.

Dated: May 9, 2008.
John Allen,
Forest Supervisor, Deschutes National Forest.

[FR Doc. E8-10947 Filed 5-15-08; 8:45 am]

BILLING CODE 3410-11-M